DEPARTMENT OF TRANSPORTATION

Federal Aviation Administration

14 CFR Part 39

[Docket No. FAA-2014-0229; Directorate Identifier 2013-NM-186-AD; Amendment 39-18123; AD 2015-06-05]

RIN 2120-AA64

Airworthiness Directives; Airbus Airplanes

AGENCY: Federal Aviation Administration (FAA), Department of Transportation (DOT).

ACTION: Final rule.

SUMMARY: We are adopting a new airworthiness directive (AD) for all Airbus Model A300 and A310 series airplanes, and certain Model A300 B4-600, B4-600R, and F4-600R series airplanes, and Model A300 C4-605R Variant F airplanes (collectively called Model A300-600 series airplanes). This AD was prompted by a review of certain repairs, which revealed that the structural integrity of the airplane could be negatively affected if those repairs are not re-worked. This AD requires an inspection to identify certain repairs, and corrective action if necessary. We are issuing this AD to detect and correct certain repairs on the floor cross beams flange. If those repairs are not reworked, the structural integrity of the airplane could be negatively affected.

DATES: This AD becomes effective May 1, 2015.

The Director of the Federal Register approved the incorporation by reference of certain publications listed in this AD as of May 1, 2015.

ADDRESSES: You may examine the AD docket on the Internet at http://www.regulations.gov/#!docketDetail;D=FAA-2014-0229; or in person at the Docket Management Facility, U.S. Department of Transportation, Docket Operations, M-30, West Building Ground Floor, Room W12-140, 1200 New Jersey Avenue SE., Washington, DC.

For service information identified in this AD, contact Airbus SAS, Airworthiness Office—EAW, 1 Rond Point Maurice Bellonte, 31707 Blagnac Cedex, France; telephone +33 5 61 93 36 96; fax +33 5 61 93 44 51; email account.airworth-eas@airbus.com; Internet http://www.airbus.com. You may view this referenced service information at the FAA, Transport Airplane Directorate, 1601 Lind Avenue SW., Renton, WA. For information on the availability of this material at the FAA, call 425-227-1221. It is also available on the Internet at http://www.regulations.gov by searching for and locating Docket No. FAA-2014-0229.

FOR FURTHER INFORMATION CONTACT: Dan Rodina, Aerospace Engineer, ANM-116, International Branch, Transport Airplane Directorate, FAA, 1601 Lind Avenue SW., Renton, WA 98507-3356; telephone 425-227-2125; fax 425-227-1149.

SUPPLEMENTARY INFORMATION:

Discussion

We issued a notice of proposed rulemaking (NPRM) to amend 14 CFR part 39 by adding an AD that would apply to all Airbus Model A300 and A310 series airplanes, and certain Model A300 B4-600, B4-600R, and F4-600R series airplanes, and Model A300 C4-605R Variant F airplanes (collectively called Model A300-600 series airplanes). The NPRM published in the Federal Register on April 16, 2014 (79 FR 21413).

The European Aviation Safety Agency (EASA), which is the Technical Agent for the Member States of the European Union, has issued EASA Airworthiness Directive 2013-0220, dated September 18, 2013 (referred to after this as the Mandatory Continuing Airworthiness Information, or “the MCAI”), to correct an unsafe condition for all Airbus Model A300 and A310 series airplanes, and certain Model A300 B4-600, B4-600R, and F4-600R series airplanes, and Model A300 C4-605R Variant F airplanes (collectively called Model A300-600 series airplanes). The MCAI states:

In the frame of the Extended Service Goal (ESG) activity, all existing Structural Repair Manual (SRM) repairs were reviewed.

This analysis, which consisted in new static and fatigue calculations, revealed that some repairs were no longer applicable to some specific areas.

These repairs, if not reworked, could affect the structural integrity of the aeroplane. To address the repairs on the floor cross beams flange, Airbus issued Alert Operator Transmission (AOT) A300-53A0392, AOT A300-53A6171 and AOT A310-53A2135.

To address this unsafe condition, and further to the implementation of the Aging Aircraft Safety Rule (AASR), this [EASA] Airworthiness Directive requires a [general visual] inspection of the floor cross beams flange at frame (FR)11 and FR12A to identify SRM repairs and, depending on findings, accomplishment of corrective action [reworking the SRM repairs].

You may examine the MCAI in the AD docket on the Internet at http://www.regulations.gov/#!documentDetail;D=FAA-2014-0229-0002.

Comments

We gave the public the opportunity to participate in developing this AD. The following presents the comments received on the NPRM (79 FR 21413, April 16, 2014) and the FAA's response to each comment.

Request To Change the Compliance Time Expression From Months to Flight Cycles

United Parcel Service (UPS) requested that the compliance time proposed in the NPRM (79 FR 21413, April 16, 2014) for doing the general visual inspection be changed from a compliance time based on months to a compliance time based on the accumulation of flight cycles since certain structural repair manual (SRM) repairs were incorporated on an airplane. UPS stated that all documentation related to the NPRM indicated that the reported damage is fatigue-related; therefore the inspection compliance time should reflect a typical fatigue-related issue, which is expressed in flight cycles. UPS explained that it did not provide a proposed compliance time because it did not have data and suggested that the original equipment manufacturer (OEM) could establish compliance times for the instructions for continued airworthiness based on the data used in the SRM repair evaluation to determine extended service goals.

We do not agree to change the compliance time expression from months to accumulated flight cycles since certain SRM repairs were done. The OEM does not have documentation for all the SRM repairs accomplished on each airplane, thus it is unable to establish compliance times because of the incomplete data. The FAA and EASA have determined that a 30-month compliance time is sufficient to accomplish the inspection and all applicable corrective actions. No change has been made to this AD regarding this issue. However, under the provisions of paragraph (i) of this AD, we may approve requests for adjustments to the compliance time if data are submitted to substantiate that such an adjustment would provide an acceptable level of safety.

Request To Omit References to the AD in Repair Approvals

UPS requested that paragraphs (h) and (i)(2) of the NPRM (79 FR 21413, April 16, 2014) be revised to omit the statement “[F]or a repair method to be approved, the repair approval must specifically refer to this AD.” UPS stated that the FAA included this sentence in the NPRM because there is a “potential” for operators to do repairs that do not adequately address the unsafe condition. UPS commented that adding a reference to the applicable AD on repair documentation does not address the root cause of repair documentation availability. Previously approved repairs for an AD should have been vetted as part of the corrective action and AD development process. However, if a repair is not identified during that process, the operator is still responsible for adhering to the Airworthy Product provision in an AD. The Airworthy Product provision, in conjunction with FAA Advisory Circular 120-77, “Maintenance and Alteration Data,” dated October 7, 2002 (http://rgl.faa.gov/Regulatory_and_Guidance_Library/rgAdvisoryCircular.nsf/0/199e798c7ee4347786256c4d004ae5dc/$FILE/AC%20120-77.pdf), provides sufficient guidance and clarification for repairs accomplished during compliance with the requirements of an AD.

We concur with the commenter's request to remove from this AD the requirement that repair approvals specifically refer to this AD. Since late 2006, we have included a standard paragraph titled “Airworthy Product” in all MCAI ADs in which the FAA develops an AD based on a foreign authority's AD. The MCAI or referenced service information in an FAA AD often directs the owner/operator to contact the manufacturer for corrective actions, such as a repair. Briefly, the Airworthy Product paragraph allowed owners/operators to use corrective actions provided by the manufacturer if those actions were FAA approved. In addition, the paragraph stated that any actions approved by the State of Design Authority (or its delegated agent) are considered to be FAA approved.

In the NPRM (79 FR 21413, April 16, 2014), we proposed to prevent the use of repairs that were not specifically developed to correct the unsafe condition by requiring that the repair approval provided by the State of Design Authority or its delegated agent specifically refer to this FAA AD. This change was intended to clarify the method of compliance and to provide operators with better visibility of repairs that are specifically developed and approved to correct the unsafe condition. In addition, we proposed to change the phrase “its delegated agent” to include “the Design Approval Holder (DAH) with a State of Design Authority's design organization approval (DOA)” to refer to a DAH authorized to approve required repairs for the AD.

Comments were provided to another NPRM (Directorate Identifier 2012-NM-101-AD (79 FR 21413, April 16, 2014)) about these proposed changes. UPS commented on that NPRM as follows: “The proposed wording, being specific to repairs, eliminates the interpretation that Airbus messages are acceptable for approving minor deviations (corrective actions) needed during accomplishment of an AD mandated Airbus service bulletin.”

That comment has made the FAA aware that some operators have misunderstood or misinterpreted the Airworthy Product paragraph to allow the owner/operator to use messages provided by the manufacturer as approval of deviations during the accomplishment of an AD-mandated action. The Airworthy Product paragraph does not approve messages or other information provided by the manufacturer for deviations to the requirements of the AD-mandated actions. The Airworthy Product paragraph only addresses the requirement to contact the manufacturer for corrective actions for the identified unsafe condition and does not cover deviations from other AD requirements. However, deviations to AD-required actions are addressed in 14 CFR 39.17, and anyone may request approval of an alternative method of compliance to the AD-required actions using the procedures found in 14 CFR 39.19.

To address this misunderstanding and misinterpretation of the Airworthy Product paragraph, we have changed that paragraph and retitled it “Contacting the Manufacturer.” This paragraph now clarifies that for any requirement in this AD to obtain corrective actions from a manufacturer, the actions must be accomplished using a method approved by the FAA, or the European Aviation Safety Agency (EASA), or Airbus's EASA Design Organization Approval (DOA).

The Contacting the Manufacturer paragraph also clarifies that, if approved by the DOA, the approval must include the DOA-authorized signature. The DOA signature indicates that the data and information contained in the document are EASA approved, which is also FAA approved. Messages and other information provided by the manufacturer that do not contain the DOA-authorized signature approval are not EASA approved, unless EASA directly approves the manufacturer's message or other information.

This clarification does not remove flexibility afforded previously by the Airworthy Product paragraph. Consistent with long-standing FAA policy, such flexibility was never intended for required actions. This is also consistent with the recommendation of the AD Implementation Aviation Rulemaking Committee to increase flexibility in complying with ADs by identifying those actions in manufacturers' service instructions that are “Required for Compliance” with ADs. We continue to work with manufacturers to implement this recommendation. But once we determine that an action is required, any deviation from the requirement must be approved as an alternative method of compliance.

Other commenters pointed out that in many cases the foreign manufacturer's service bulletin and the foreign authority's MCAI may have been issued some time before the FAA AD. Therefore, the DOA may have provided U.S. operators with an approved repair, developed with full awareness of the unsafe condition, before the FAA AD is issued. Under these circumstances, to comply with the FAA AD, the operator would be required to go back to the manufacturer's DOA and obtain a new approval document, adding time and expense to the compliance process with no safety benefit.

Based on these comments, we removed the requirement from this AD that the DAH-provided repair specifically refer to this AD. Before adopting such a requirement in the future, the FAA will coordinate with affected DAHs and verify they are prepared to implement means to ensure that their repair approvals consider the unsafe condition addressed in an AD. Any such requirements will be adopted through the normal AD rulemaking process, including notice-and-comment procedures, when appropriate.

We have also decided not to include a generic reference to either the “delegated agent” or the “DAH with State of Design Authority design organization approval,” but instead we will provide the specific delegation approval granted by the State of Design Authority for the DAH.

Additional Changes to This AD

In this AD, we have corrected a formatting error in the subparagraphs of paragraph (g)(1) of the NPRM (79 FR 21413, April 16, 2014). The subparagraphs were incorrectly identified as (g)(1)(a), (g)(1)(b), and (g)(1)(c), and should have been identified as paragraphs (g)(1)(i), (g)(1)(ii), and (g)(1)(iii) of this AD.

Conclusion

We reviewed the relevant data, considered the comments received, and determined that air safety and the public interest require adopting this AD with the changes described previously and minor editorial changes. We have determined that these minor changes:

• Are consistent with the intent that was proposed in the NPRM (79 FR 21413, April 16, 2014) for correcting the unsafe condition; and

• Do not add any additional burden upon the public than was already proposed in the NPRM (79 FR 21413, April 16, 2014).

We also determined that these changes will not increase the economic burden on any operator or increase the scope of this AD.

Related Service Information Under 1 CFR Part 51

Airbus has issued the following service information, which describes procedures for doing general visual inspections of the floor cross beams flange at certain frames and contacting the manufacturer for corrective actions:

• Airbus All Operator Telex A300-53A0392, dated March 14, 2012 (for Model A300 series airplanes);

• Airbus All Operator Telex A300-53A617, dated March 14, 2012 (for Model A300 B4-601, B4-603, B4-620, and B4-622 airplanes; Model A300 B4-605R and B4-622R airplanes; Model A300 F4-605R and F4-622R airplanes; and Model A300 C4-605R Variant F airplanes); and

• Airbus All Operator Telex A310-53A2135, dated March 14, 2012 (for Model A310 series airplanes).

This service information is reasonably available; see ADDRESSES for ways to access this service information.

Costs of Compliance

We estimate that this AD affects 177 airplanes of U.S. registry.

We also estimate that it would take about 1 work-hour per product to comply with the basic requirements of this AD. The average labor rate is $85 per work-hour. Based on these figures, we estimate the cost of this AD on U.S. operators to be $15,045, or $85 per product.

We have received no definitive data that would enable us to provide cost estimates for the on-condition actions specified in this AD.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

Examining the AD Docket

You may examine the AD docket on the Internet at http://www.regulations.gov/#!docketDetail;D=FAA-2014-0229; or in person at the Docket Management Facility between 9 a.m. and 5 p.m., Monday through Friday, except Federal holidays. The AD docket contains this AD, the regulatory evaluation, any comments received, and other information. The street address for the Docket Operations office (telephone 800-647-5527) is in the ADDRESSES section.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2015-06-05 Airbus: Amendment 39-18123. Docket No. FAA-2014-0229; Directorate Identifier 2013-NM-186-AD.

(a) Effective Date

This AD becomes effective May 1, 2015.

(b) Affected ADs

None.

(c) Applicability

This AD applies to the Airbus airplanes identified in paragraphs (c)(1), (c)(2), and (c)(3) of this AD, certificated in any category.

(1) Model A300 B2-1A, B2-1C, B2K-3C, B2-203, B4-2C, B4-103, and B4-203 airplanes, all manufacturer serial numbers.

(2) Model A300 B4-601, B4-603, B4-620, and B4-622 airplanes; Model A300 B4-605R and B4-622R airplanes; Model A300 F4-605R and F4-622R airplanes; and Model A300 C4-605R Variant F airplanes; all manufacturer serial numbers, except those on which Airbus Modification 12699 has been embodied in production.

(3) Model A310-203, -204, -221, -222, -304, -322, -324, and -325 airplanes, all manufacturer serial numbers.

(d) Subject

Air Transport Association (ATA) of America Code 53, Fuselage.

(e) Reason

This AD was prompted by a review of certain repairs, which revealed that the structural integrity of the airplane could be negatively affected if those repairs are not re-worked. We are issuing this AD to detect and correct certain repairs on the floor cross beams flange. If those repairs are not reworked, the structural integrity of the airplane could be negatively affected.

(f) Compliance

Comply with this AD within the compliance times specified, unless already done.

(g) Inspection

(1) Within 30 months after the effective date of this AD: Do a general visual inspection of the floor cross beams flange at FR11 and FR12A to determine which structural repair manual (SRM) repairs have been done, in accordance with the instructions of the service information specified in paragraph (g)(1)(i), (g)(1)(ii), or (g)(1)(iii) of this AD, as applicable.

(i) For Model A300 series airplanes: Airbus All Operator Telex (AOT) A300-53A0392, dated March 14, 2012.

(ii) For Model A300 B4-601, B4-603, B4-620, and B4-622 airplanes; Model A300 B4-605R and B4-622R airplanes; Model A300 F4-605R and F4-622R airplanes; and Model A300 C4-605R Variant F airplanes: Airbus AOT A300-53A6171, dated March 14, 2012.

(iii) For Model A310 series airplanes: Airbus AOT A310-53A2135, dated March 14, 2012.

(2) A review of airplane maintenance records is acceptable in lieu of the general visual inspection required by paragraph (g)(1) of this AD if the SRM repairs can be positively identified from that review.

(h) Repair

If, during the inspection required by paragraph (g)(1) of this AD, it is determined that any SRM repair specified in paragraph 2 of the service information identified in paragraph (g)(1)(i), (g)(1)(ii), or (g)(1)(iii) of this AD, as applicable, has been done: Within 30 months after the effective date of this AD, rework the repair using a method approved by the Manager, International Branch, ANM-116, Transport Airplane Directorate, FAA; or the European Aviation Safety Agency (EASA); or Airbus's EASA Design Organization Approval (DOA).

(i) Other FAA AD Provisions

The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to ATTN: Dan Rodina, Aerospace Engineer, International Branch, ANM-116, Transport Airplane Directorate, FAA, 1601 Lind Avenue SW., Renton, WA 98507-3356; telephone 425-227-2125; fax 425-427-1149. Information may be emailed to: 9-ANM-116-AMOC-REQUESTS@faa.gov. Before using any approved AMOC, notify your appropriate principal inspector, or lacking a principal inspector, the manager of the local flight standards district office/certificate holding district office. The AMOC approval letter must specifically reference this AD.

(2) Contacting the Manufacturer: For any requirement in this AD to obtain corrective actions from a manufacturer, the action must be accomplished using a method approved by the Manager, International Branch, ANM-116, Transport Airplane Directorate, FAA; or the EASA; or Airbus's EASA DOA. If approved by the DOA, the approval must include the DOA-authorized signature.

(j) Related Information

Refer to Mandatory Continuing Airworthiness Information (MCAI) Airworthiness Directive 2013-0220, dated September 18, 2013, for related information. This MCAI may be found in the AD docket on the Internet at http://www.regulations.gov/#!documentDetail;D=FAA-2014-0229-0002.

(k) Material Incorporated by Reference

(1) The Director of the Federal Register approved the incorporation by reference (IBR) of the service information listed in this paragraph under 5 U.S.C. 552(a) and 1 CFR part 51.

(2) You must use this service information as applicable to do the actions required by this AD, unless this AD specifies otherwise.

(i) Airbus All Operator Telex A300-53A0392, dated March 14, 2012. The document number and date appear on only the first page of this document.

(ii) Airbus All Operator Telex A300-53A6171, dated March 14, 2012. The document number and date appear on only the first page of this document.

(iii) Airbus All Operator Telex A310-53A2135, dated March 14, 2012. The document number and date appear on only the first page of this document.

(3) For service information identified in this AD, contact Airbus SAS, Airworthiness Office—EAW, 1 Rond Point Maurice Bellonte, 31707 Blagnac Cedex, France; telephone +33 5 61 93 36 96; fax +33 5 61 93 44 51; email account.airworth-eas@airbus.com; Internet http://www.airbus.com.

(4) You may view this service information at the FAA, Transport Airplane Directorate, 1601 Lind Avenue SW., Renton, WA. For information on the availability of this material at the FAA, call 425-227-1221.

(5) You may view this service information that is incorporated by reference at the National Archives and Records Administration (NARA). For information on the availability of this material at NARA, call 202-741-6030, or go to: http://www.archives.gov/federal-register/cfr/ibr-locations.html.

Issued in Renton, Washington, on March 14, 2015.
Jeffrey E. Duven,
Manager, Transport Airplane Directorate, Aircraft Certification Service.

[FR Doc. 2015-06583 Filed 3-26-15; 8:45 am]

BILLING CODE 4910-13-P